TENNESSEE VALLEY AUTHORITY

Meeting of the Regional Resource Stewardship Council

AGENCY: Tennessee Valley Authority (TVA).

ACTION: Notice of meeting.

SUMMARY: The TVA Regional Resource Stewardship Council (RRSC) will hold a meeting on Wednesday, April 27 and Thursday, April 28, 2011, to consider various matters.

The RRSC was established to advise TVA on its natural resource stewardship activities. Notice of this meeting is given under the Federal Advisory Committee Act (FACA), 5 U.S.C. App. 2.

The management of the Tennessee Valley reservoirs and the lands adjacent to them has long been an integral component of TVA's mission. As part of implementing the TVA Environmental Policy, TVA is developing a Natural Resource Plan (NRP) that will help prioritize techniques for the management of TVA's biological and cultural resource management activities, recreation management activities, water resource protection and improvement activities, and lands planning. In accordance with the National Environmental Policy Act, TVA is also developing an accompanying Environmental Impact Statement (EIS) in which TVA will evaluate the preferred strategy for the NRP, as well as other viable alternative strategies. TVA is using the RRSC as a key stakeholder group throughout the development of the NRP to advise TVA on the issues, tradeoffs, and focus of environmental stewardship activities. The draft NRP and accompanying draft EIS were recently released for public comment. At the April 2011 meeting, TVA will be seeking advice from the Council on issues regarding the programs which comprise the draft NRP.

The meeting agenda includes the following:

1. Introductions.

2. NRP Overview; Programs included in the draft NRP for biological, cultural, water, and recreational resources and lands planning; Incorporation of Guiding Principles and advice received from the RRSC at its January 2011 meeting; Public comments received regarding the draft NRP and draft EIS.

3. Tour of Melton Hill Dam Campground; Presentations regarding several specific ongoing or proposed stewardship programs.

4. RRSC Discussion Topic: The scope of the programs included in the resource area components of the draft NRP and the benefits and challenges stemming from such programs.

5. Public Comments.

6. Council Discussion and Advice.

The RRSC will hear opinions and views of citizens by providing a public comment session. The public comment session will be held at 10 a.m., EDT, on Thursday, April 28. Persons wishing to speak are requested to register at the door by 9 a.m. on Thursday, April 28 and will be called on during the public comment period. Handout materials should be limited to one printed page. Written comments are also invited and may be mailed to the Regional Resource Stewardship Council, Tennessee Valley Authority, 400 West Summit Hill Drive, WT 11B, Knoxville, Tennessee 37902.

DATES: The meeting will be held on Wednesday, April 27 from 8:30 a.m. to 4:30 p.m., and Thursday, April 28 from 8 a.m. to 12 noon, EDT.

ADDRESSES: The meeting will be held at the Tennessee Valley Authority, 400 West Summit Hill Drive, Knoxville, Tennessee 37902, and will be open to the public. Anyone needing special access or accommodations should let the contact below know at least a week in advance.

FOR FURTHER INFORMATION CONTACT: Beth Keel, 400 West Summit Hill Drive, WT 11B, Knoxville, Tennessee 37902, (865) 632-6113.

Dated: March 22, 2011.
Anda A. Ray,
Senior Vice President, Environment and Technology and Environmental Executive, Tennessee Valley Authority.

[FR Doc. 2011-7207 Filed 3-25-11; 8:45 am]

BILLING CODE 8120-08-P